FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 16, 2011.

A. Federal Reserve Bank of Minneapolis (Jacqueline G. King, Community Affairs Officer) 90 Hennepin Avenue, Minneapolis, Minnesota 55480-0291:

1. Colleen S. Yunker Revocable Trust, Sturgis, Michigan (trustees Jack Steele, Wolsey, South Dakota, and Sturgis Bank and Trust Company, Sturgis, Michigan), to retain voting shares of Leackco Bank Holding Company, Inc., Wolsey, South Dakota, and thereby indirectly retain voting shares of American Bank & Trust, Wessington Springs, South Dakota.

2. Eugene Joseph Welle Irrevocable HJW Trust, Hugh J. Welle, Trustee, and Paulette E. Welle, all of Bemidji, Minnesota; to join the Welle Family Shareholder Group, which controls voting shares of First Bemidji Holding Company, and thereby indirectly controls voting shares of The First National Bank of Bemidji, both in Bemidji, Minnesota.

Board of Governors of the Federal Reserve System, November 28, 2011.
Robert deV. Frierson,
Deputy Secretary of the Board.

[FR Doc. 2011-30949 Filed 12-1-11; 8:45 am]

BILLING CODE 6210-01-P